ENVIRONMENTAL PROTECTION AGENCY

[FRL-7210-6]

Technical Peer Review Workshop on the EPA Risk Assessment Forum Draft Framework for Cumulative Risk Assessment

AGENCY: Environmental Protection Agency (EPA).

ACTION: Notice of meeting.

SUMMARY: EPA is announcing a meeting, organized and convened by Versar, Inc., a contractor to EPA's Risk Assessment Forum, for external scientific peer review on the draft Framework for Cumulative Risk Assessment (EPA/630/P-02/001A). The meeting is being held to discuss technical issues associated with cumulative risk assessment and how to capture these issues in a broad, flexible framework that will inform future guidance development efforts in this area. The EPA also is announcing a 30-day public comment period for the draft document. EPA will consider the peer review advice and public comment submissions in revising the Framework document.

DATES: The peer review meeting will be held from 8:30 a.m. to 5 p.m. on Tuesday, June 4, 2002 and from 8:30 a.m. to 5 p.m. on Wednesday, June 5, 2002. The 30-day public comment period begins May 10, 2002, and ends June 10, 2002. Technical comments should be in writing and must be postmarked by June 10, 2002.

ADDRESSES: The meeting will be held at the Courtyard Crystal City Hotel, 2899 Jefferson Davis Highway, Arlington, VA 22202. Versar, Inc., an EPA contractor, will convene and facilitate the workshop. To register to attend the workshop as an observer, visit www.versar.com/epa/cumriskmtg.htm, or contact Ms. Traci Bludis, Versar, Inc.; telephone: (703) 750-3000 extension 449; facsimile: 703-642-6954; e-mail bluditra@versar.com by 5 p.m. eastern daylight time, May 31, 2002.

The draft Framework for Cumulative Risk Assessment is available via the Internet on the Risk Assessment Forum Publications home page at http://www.epa.gov/ncea/raf/rafpub.htm under What's New. Copies are not available from Versar Inc.

Public comments may be mailed to the Technical Information Staff (8623D), NCEA-W, U.S. Environmental Protection Agency, 1200 Pennsylvania Avenue, NW., Washington, DC 20460, or delivered to the Technical Information Staff at 808 17th Street, NW., 5th Floor, Washington, DC 20006; telephone: 202-564-3261; facsimile: 202-565-0050.

FOR FURTHER INFORMATION CONTACT: For further information concerning the technical peer review workshop or the draft Framework for Cumulative Risk Assessment, please contact Steven Knott, U.S. EPA Office of Research and Development (8601-D), 1200 Pennsylvania Ave. NW., Washington, DC 20460, Telephone (202) 564-3359, Fax (202) 565-0062, e-mail knott.steven@epa.gov.

SUPPLEMENTARY INFORMATION: Several reports have highlighted the importance of understanding the accumulation of risks from multiple environmental stressors. These include the National Research Council's (NRC) 1994 report Science and Judgment in Risk Assessment and the 1997 report by the Presidential/Congressional Commission on Risk Assessment and Risk Management entitled Risk Assessment and Risk Management in Regulatory Decision-Making. In addition, legislation such as the Food Quality Protection Act of 1996 (FQPA), has directed the Environmental Protection Agency (EPA) to move beyond single chemical assessments and to focus, in part, on the cumulative effects of chemical exposures occurring simultaneously. Further emphasizing the need for EPA to focus on cumulative risks are cases filed under Title VI of the 1964 Civil Rights Act.

In response to the increasing focus on cumulative risk, several EPA programs have begun to explore cumulative approaches to risk assessment. In 1997, The EPA Science Policy Council issued a guidance on planning and scoping for cumulative risk assessments. More recently, the Office of Pesticide Programs has developed cumulative risk assessment guidance focused on implementing certain provisions of FQPA. The Office of Air Quality Planning and Standards has applied cumulative exposure models in its analyses for the National-Scale Air Toxics Assessment (NATA).

The EPA Science Policy Council has asked the Risk Assessment Forum (RAF) to begin developing Agency-wide cumulative risk assessment guidance that builds from these ongoing activities. As a first step, a technical panel convened under the RAF has been working to develop a Framework for Cumulative Risk Assessment. Building from the Agency's growing experiences, this Framework is intended to identify the basic elements of the cumulative risk assessment process. It should provide a flexible structure for the technical issues and define key terms associated with cumulative risk assessment.

Feedback on early drafts of the Framework for Cumulative Risk Assessment was obtained through meetings with other Federal and State government scientists. In addition, feedback was obtained through a public peer consultation meeting held in August 2001. The workshop and public comment period announced in this notice are associated with the external scientific peer review of the current draft of the Framework. The peer review will focus on the technical issues associated with the draft Framework.

Dated: May 3, 2002.
George W. Alapas,
Acting Director, National Center for Environmental Assessment.

[FR Doc. 02-11737 Filed 5-9-02; 8:45 am]

BILLING CODE 6560-50-P